POSTAL SERVICE

39 CFR Part 111

Postage and Fees Refunds; Unused Adhesive Stamps and Stamps Affixed to Unmailed Matter

AGENCY: Postal Service.

ACTION: Final rule; comments acceptable.

SUMMARY: The Postal Service is amending a portion of its rule on postage and fees refunds, to clarify that payments may be made in some cases for unused adhesive stamps and adhesive stamps affixed to unmailed matter. The purpose of this change is to allow the Postal Service to test market programs that involve the use of postage stamps to pay for goods and services.

DATES: Effective March 9, 2000. Comments must be received on or before April 10, 2000.

ADDRESSES: Mail or deliver written comments to Manager, Advertising Mail, USPS Headquarters, Room 5413, 475 L'Enfant Plaza SW, Washington, DC 20260-2690. Copies of all written comments will be available for inspection and photocopying between 9 a.m. and 4 p.m., Monday through Friday, at the above address.

FOR FURTHER INFORMATION CONTACT: Chris C. Conboy, (202) 268-3120.

SUPPLEMENTARY INFORMATION: Under section P014.2.7 of the Domestic Mail Manual (DMM), the Postal Service currently disallows refunds for unused adhesive stamps and adhesive stamps affixed to unmailed matter. While this policy is necessary to promote the efficiency of ordinary retail postal operations, the current DMM language hampers the testing and development of innovative marketing programs such as the Micropayment Program. Under this program, vendors would be allowed to receive payment for goods and services, priced between $1.00 and $10.00, in the form of postage stamps affixed to a postcard or a similar item. The vendors, in turn, would return the stamps to the Postal Service and receive payments in an amount less than the face value of the stamps. As amended, section P014.2.7 of the DMM will more clearly allow payment for unused adhesive stamps and stamps affixed to unmailed matter in connection with marketing programs approved by the Senior Vice President for Marketing, thus allowing tests of the Micro Payment Program and similar initiatives to proceed.

List of Subjects 39 CFR Part 111

Administrative practice and procedure, Postal Service.

Accordingly, the Postal Service hereby amends section P014.2.7 of the Domestic Mail Manual (DMM), which is incorporated by reference in the Code of Federal Regulations. See 39 CFR Part 111.

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Amend section P014.2.7 of the Domestic Mail Manual (DMM) to read as follows:

P POSTAGE AND PAYMENT METHODS

P000 Basic Information

P010 General Standards

* * * * *

P014 Refunds and Exchanges

* * * * *

2.0 POSTAGE AND FEES REFUNDS

* * * * *

2.7 Unallowable Refunds

Refunds are not made for the following:

a. An application fee to use permit imprints.

b. Collect on delivery (COD), Express Mail insurance, insured, and registered fees after the USPS accepts the article, even if the article is later withdrawn from the mail.

c. Unused adhesive stamps (may be exchanged under 1.1 through 1.5).

d. Adhesive stamps affixed to unmailed matter.

These limits on refunds are not intended to prohibit payments for unused adhesive stamps and adhesive stamps affixed to unmailed matter in connection with an authorized marketing program.

* * * * *

Stanley F. Mires,
Chief Counsel, Legislative.

[FR Doc. 00-5960 Filed 3-9-00; 8:45 am]

BILLING CODE 7710-12-P